DEPARTMENT OF COMMERCE

National Oceanic and Atmospheric Administration

RIN 0648-XR45

Marine Mammals; File No. 14233

AGENCY: National Marine Fisheries Service (NMFS), National Oceanic and Atmospheric Administration (NOAA), Commerce.

ACTION: Notice; receipt of application.

SUMMARY: Notice is hereby given that Scott D. Kraus, Ph.D., New England Aquarium Edgerton Research Laboratory, Central Wharf, Boston, MA 02110, has applied in due form for a permit to conduct research on North Atlantic right whales (Eubalaena glacialis).

DATES: Written, telefaxed, or e-mail comments must be received on or before October 13, 2009.

ADDRESSES: The application and related documents are available for review by selecting “Records Open for Public Comment” from the Features box on the Applications and Permits for Protected Species (APPS) home page, https://apps.nmfs.noaa.gov, and then selecting File No. 14233 from the list of available applications.

These documents are also available upon written request or by appointment in the following offices:

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9300; fax (978)281-9333; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Comments may also be submitted by e-mail. The mailbox address for providing e-mail comments is NMFS.Pr1Comments@noaa.gov. Include in the subject line of the e-mail comment the following document identifier: File No. 14233.

FOR FURTHER INFORMATION CONTACT: Amy Hapeman or Kristy Beard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Dr. Kraus requests a five-year scientific research permit to study North Atlantic right whales along the U.S. East Coast from Florida to Maine with intensive sampling in designated right whale critical habitats. Using aerial and vessel surveys, the program would annually monitor as many individuals as possible, identifying and documenting: skin and body condition; anthropogenic scarring; calf production; calving intervals; birth rates of individual females; sex, age, and genetic patterns in movement, behavior, and habitat use; rates and causes of mortality; hormone and stress levels, and behavior and association data over time. Aerial surveys would occur at approximately 1,000 ft. primarily off the coast of the southeastern United States. During vessel surveys, researchers would approach, photograph and collect fecal samples from up to 450 whales, 50 of which would also be biopsy sampled annually. All age classes would be targeted for research. Individual whales may be approached up to 10 times per year. Researchers also request the authority to import and export up to 50 biological samples per year, including samples and tissues from dead right whales in other parts of the world to use in control and comparative studies. These data would be used to test hypotheses on the potential links between contaminants, biotoxins, food supply, nutrition, global warming, acoustic disturbance and habitat loss, and the decline in reproduction of right whales.

Concurrent with the publication of this notice in the Federal Register, NMFS is forwarding copies of this application to the Marine Mammal Commission and its Committee of Scientific Advisors.

Dated: September 3, 2009.
P. Michael Payne,
Chief, Permits, Conservation and Education Division, Office of Protected Resources, National Marine Fisheries Service.

[FR Doc. E9-21877 Filed 9-9-09; 8:45 am]

BILLING CODE 3510-22-S